DEPARTMENT OF HOMELAND SECURITY

Coast Guard

33 CFR Part 117

[CGD05-05-127]

RIN 1625-AA-09

Drawbridge Operation Regulations; Shark River (South Channel), NJ

AGENCY: Coast Guard, DHS.

ACTION: Notice of temporary deviation from regulations.

SUMMARY: The Commander, Fifth Coast Guard District, has approved a temporary deviation from the regulations governing the operation of the Route 71 Bridge, at mile 0.8, across Shark River (South Channel), at Belmar, New Jersey. This deviation allows the drawbridge to provide vessel openings upon two hours advance notice each day from 8 a.m. to 3 p.m. and from 6 p.m. to 10 p.m. beginning on Monday, October 31 until Thursday, November 3, 2005, to facilitate emergency mechanical repairs.

DATES: The deviation is effective from 8 a.m. to 3 a.m. and from 6 p.m. to 10 p.m. from October 31 until November 3, 2005.

ADDRESSES: Materials referred to in this document are available for inspection or copying at Commander (obr), Fifth Coast Guard District, Federal Building, 1st Floor, 431 Crawford Street, Portsmouth, VA 23704-5004 between 8 a.m. and 4 p.m., Monday through Friday, except Federal holidays. The telephone number is (757) 398-6222. Commander (obr), Fifth Coast Guard District maintains the public docket for this temporary deviation.

FOR FURTHER INFORMATION CONTACT: Waverly W. Gregory, Jr., Bridge Administrator, Fifth Coast Guard District, at (757) 398-6222.

SUPPLEMENTARY INFORMATION: The Route 71 Bridge, at mile 0.8 across Shark River (South Channel), a bascule-type drawbridge, has a vertical clearance in the closed position to vessels of 13 feet, at mean high water.

The New Jersey Department of Transportation, the bridge owner, requested a temporary deviation from the operating regulations for the Route 71 Bridge, set out in 33 CFR 117.751, to effect emergency repair and replacement of the span lock motor and gear box of the draw span.

To facilitate the work, the Route 71 Bridge will provide vessel openings of the draw span upon two hours advance notice each day from 8 a.m. to 3 p.m. and from 6 p.m. to 10 p.m. beginning on Monday, October 31, 2005 until and including Thursday, November 3, 2005. At all other times, the bridge will operate in accordance with 33 CFR 117.751.

The Coast Guard has informed the known users of the waterway of the closure periods for the bridge so that these vessels can arrange their transits to minimize any impact caused by the temporary deviation.

In accordance with 33 CFR 117.35(c), this work will be performed with all due speed in order to return the bridge to normal operation as soon as possible. This deviation from the operating regulations is authorized under 33 CFR 117.35.

Dated: October 20, 2005.
Waverly W. Gregory, Jr.,
Chief, Bridge Administration Branch, Fifth Coast Guard District.

[FR Doc. 05-21501 Filed 10-27-05; 8:45 am]

BILLING CODE 4910-15-P